COMMISSION ON CIVIL RIGHTS

Agenda and Notice of Public Meeting of the New Mexico Advisory Committee

Notice is hereby given, pursuant to the provisions of the rules and regulations of the U.S. Commission on Civil Rights, that a conference call of the New Mexico State Advisory Committee will convene at 1 p.m. (MDT) and adjourn at 2 p.m. (MDT), Monday, August 29, 2005. The purpose of the conference call is to provide a status report on the Commission and regional programs, have planning for the public release of the Farmington report, The Farmington Report: Civil Rights for Native Americans 30 Years Later, and future planning.

This conference call is available to the public through the following call-in number: 1-800-473-6927; call-in ID#: 4344-5550. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number and access code.

To ensure that the Commission secures an appropriate number of lines for the public, persons are asked to register by contacting John F. Dulles, Rocky Mountain Regional Office, (303) 866-1040 (TDD 303-866-1049), by 3 p.m. (MDT) on Thursday, August 25, 2005.

The meeting will be conducted pursuant to the provisions of the rules and regulations of the Commission.

Dated at Washington DC, August 18, 2005.
Ivy L. Davis,
Acting Chief, Regional Programs Coordination Unit.

[FR Doc. 05-17130 Filed 8-26-05; 8:45 am]

BILLING CODE 6335-01-P